DEPARTMENT OF ENERGY

Federal Energy Regulatory Commission

[P-2423-029]

Notice of Application Accepted for Filing and Soliciting Comments, Motions To Intervene, and Protests: Great Lakes Hydro America

Take notice that the following hydroelectric application has been filed with the Commission and is available for public inspection:

a. Type of Application: Request for a temporary variance from elevation requirements.

b. Project No.: 2423-029.

c. Date Filed: July 10, 2018.

d. Applicant: Great Lakes Hydro America, LLC.

e. Name of Project: Riverside Hydroelectric Project.

f. Location: The project is located on Androscoggin River in Coos County, New Hampshire.

g. Filed Pursuant to: Federal Power Act, 16 U.S.C. 791(a)-825(r).

h. Applicant Contact: Ms. Kelly Maloney, Great Lakes Hydro America, LLC, 150 Main Street, Lewiston, ME 04240, (207) 755-5605.

i. FERC Contact: Anumzziatta Purchiaroni, (202) 502-6191, anumzziatta.purchiaroni@ferc.gov.

j. Deadline for filing comments, motions to intervene, and protests: August 20, 2018.

The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2423-029.

k. Description of Request: The licensee requests Commission approval for a temporary modification from the normal reservoir elevation to perform flashboards repairs at the project that were damaged and washed out since April 2018. Since that time, the licensee has been operating the project at dam crest elevation of 1,074.4 feet United States Geologic Datum (USGS), depending on flow spilling over the crest of the dam. The licensee plans to return the reservoir to the normal headwater level of 1,076.8 feet NGVD, at the end of September 2018, right after the flashboard repair work is completed. The licensee states that minimum flows for the bypassed reach will continue to be passed through leakage and the designated pipes within the spillway.

l. Locations of the Applications: A copy of the application is available for inspection and reproduction at the Commission's Public Reference Room, located at 888 First Street NE, Room 2A, Washington, DC 20426, or by calling (202) 502-8371. The filing may also be viewed on the Commission's website at http://www.ferc.gov/docs-filing/elibrary.asp. Enter the docket number excluding the last three digits in the docket number field to access the document (i.e., P-2423-029). You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Motions to Intervene or Protests: Anyone may submit comments, a motion to intervene, or a protest in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title COMMENTS, MOTION TO INTERVENE, or PROTEST as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis. A copy of all other filings in reference to this application must be accompanied by proof of service on all persons listed in the service list prepared by the Commission in this proceeding, in accordance with 18 CFR 4.34(b) and 385.2010.

Dated: August 3, 2018.
Nathaniel J. Davis, Sr.,
Deputy Secretary.

[FR Doc. 2018-17027 Filed 8-8-18; 8:45 am]

BILLING CODE 6717-01-P